DEPARTMENT OF COMMERCE

National Oceanic and Atmospheric Administration

[I.D. 090302B]

Marine Mammals; File No. 112-1684

AGENCY: National Marine Fisheries Service (NMFS), National Oceanic and Atmospheric Administration (NOAA), Commerce.

ACTION: Issuance of permit.

SUMMARY: Notice is hereby given that Point Defiance Zoo and Aquarium, 5400 North Pearl Street, Tacoma, Washington 98407, has been issued a permit to import one harbor seal (Phoca vitulina richardsi) for purposes of public display.

ADDRESSES: The permit and related documents are available for review upon written request or by appointment in the following office(s):

Permits, Conservation and Education Division, Office of Protected Resources, NOAA Fisheries, 1315 East-West Highway, Room 13705, Silver Spring, MD 20910; phone (301) 713-2289; fax (301) 713-0376; and

Regional Administrator, Northwest Region, NOAA Fisheries, 7600 Sand Point Way NE, BIN C15700, Bldg. 1, Seattle, WA 98115-0700; phone (206) 526-6150; fax (206) 526-6426.

FOR FURTHER INFORMATION CONTACT: Jennifer Skidmore or Jill Lewandowski, (301) 713-2289.

SUPPLEMENTARY INFORMATION: On July 12, 2002, notice was published in the Federal Register (67 FR 46180) that a request for a public display permit to import one female harbor seal had been submitted by the above-named organization. The requested permit has been issued under the authority of the Marine Mammal Protection Act of 1972, (16 U.S.C. 1361 et seq.), and the Regulations Governing the Taking and Importing of Marine Mammals (50 CFR part 216).

Dated: September 4, 2002.
Eugene T. Nitta,
Acting Chief, Permits, Conservation and Education Division, Office of Protected Resources, National Marine Fisheries Service.

[FR Doc. 02-22923 Filed 9-9-02; 8:45 am]

BILLING CODE 3510-22-S